DEPARTMENT OF HOUSING AND URBAN DEVELOPMENT

[Docket No. FR-4557-N-37]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 14411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857, (301) 443-2265. (This is not a toll-free number.) HHS will mail to the interested provider an application packet, which will include instructions for competing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, by made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be he property address (including zip code), the date of publication in the Federal Register, the landholding agency, and the property number.

For more information regarding particular properties identified in this Notice (i.e., acreage, floor plan, existing sanitary facilities, exact street address), providers should contact the appropriate landholding agencies at the following addresses: Army: Mr. Jeff Holste, Army Corps of Engineers, Military Programs, Installation Support Division, Planning Branch, ATTN: CEMP-IP, 441 G Street, NW, Washington, DC 20314-1000; (202) 761-5737; GSA: Mr. Brian K. Polly, Assistant Commissioner, General Services Administration, Office of Property Disposal, 18th and F Streets, NW., Washington, DC 20405; (202) 501-0052; Interior: Ms. Linda Tribby, Department of the Interior, 1849 C Street, NW., Mail Stop 5512-MIB, Washington, DC 20240; (202) 219-0728; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: September 7, 2000.
Fred Karnas, Jr.,
Deputy Assistant Secretary for Special Needs Assistance Programs.

TITLE V, FEDERAL SURPLUS PROPERTY PROGRAM FEDERAL REGISTER REPORT FOR 9/15/00

Suitable/Available Properties

Buildings (by State)

Alabama

Residence 1223

204 Akin Drive

Tuskegee Co: Macon AL 36083-

Landholding Agency: GSA

Property Number: 54200020023

Status: Excess

Comment: 1375 sq. ft., brick, veneer, most recent use—residential

GSA Number: 4-A-AL-768

Alaska

Bldg. 00390

Fort Richardson

Ft. Richardson Co: AK 99505-

Landholding Agency: Army

Property Number: 21200030067

Status: Excess

Comment: 13,632 sq. ft., off-site use only

Bldgs. 01200, 01202

Fort Richardson

Ft. Richardson Co: AK 99505-

Landholding Agency: Army

Property Number: 21200030068

Status: Excess

Comment: 4508 & 6366 sq. ft., most recent use—hazard bldg., off-site use only

Bldg. 01204

Fort Richardson

Ft. Richardson Co: AK 99505-

Landholding Agency: Army

Property Number: 21200030069

Status: Excess

Comment: 5578 sq. ft., most recent use—VOQ transient, off-site use only

Bldgs. 01205-01207

Fort Richardson

Ft. Richardson Co: AK 99505-

Landholding Agency: Army

Property Number: 21200030070

Status: Excess

Comment: various sq. ft., most recent use—hazard bldg., off-site use only

Bldgs. 01208, 01210, 01212

Fort Richardson

Ft. Richardson Co: AK 99505-

Landholding Agency: Army

Property Number: 21200030071

Status: Excess

Comment: various sq. ft., most recent use—hazard bldg., off-site use only

Bldgs. 01213, 01214

Fort Richardson

Ft. Richardson Co: AK 99505-

Landholding Agency: Army

Property Number: 21200030072

Status: Excess

Comment: 11964 & 13740 sq. ft., most recent use—transient UPH, off-site use only

Bldgs. 01218, 01230

Fort Richardson

Ft. Richardson Co: AK 99505-

Landholding Agency: Army

Property Number: 21200030073

Status: Excess

Comment: 480 & 188 sq. ft., most recent use—hazard bldgs., off-site use only

Bldgs. 01231, 01232

Fort Richardson

Ft. Richardson Co: AK 99505-

Landholding Agency: Army

Property Number: 21200030074

Status: Excess

Comment: 458 & 4260 sq. ft., most recent use—hazard bldgs., off-site use only

Bldg. 01234

Fort Richardson

Ft. Richardson Co: AK 99505-

Landholding Agency: Army

Property Number: 21200030075

Status: Excess

Comment: 615 sq. ft., most recent use—admin., off-site use, only

Bldg. 01237

Fort Richardson

Ft. Richardson Co: AK 99505-

Landholding Agency: Army

Property Number: 21200030076

Status: Excess

Comment: 408 sq. ft. most recent use—fuel/pol bldg., off-site use only

Bldg. 01272

Fort Richardson

Ft. Richardson Co: AK 99505-

Landholding Agency: Army

Property Number: 21200030077

Status: Excess

Comment: 308 sq. ft., most recent use—storage, off-site use only

Bldg. 03002

Fort Richardson

Ft. Richardson Co: AK 99505-

Landholding Agency: Army

Property Number: 21200030078

Status: Excess

Comment: 7480 sq. ft., most recent use—storage, off-site use only

Bldg. 03725

Fort Richardson

Ft. Richardson Co: AK 99505-

Landholding Agency: Army

Property Number: 21200030079

Status: Excess

Comment: 7200 sq. ft., most recent use—veh. maint. shop, off-site use only

Bldg. 08109

Fort Richardson

Ft. Richardson Co: AK 99505-

Landholding Agency: Army

Property Number: 21200030080

Status: Excess

Comment: 1920 sq. ft., most recent use—storage, off-site use only

Bldg. 21001

Fort Richardson

Ft. Richardson Co: AK 99505-

Landholding Agency: Army

Property Number: 21200030081

Status: Excess

Comment: 3200 sq. ft., most recent use—family housing, off-site use only

Bldg. 22001

Fort Richardson

Ft. Richardson Co: AK 99505-

Landholding Agency: Army

Property Number: 21200030082

Status: Excess

Comment: 1448 sq. ft., most recent use—family housing, off-site use only

Bldg. 22002

Fort Richardson

Ft. Richardson Co: AK 99505-

Landholding Agency: Army

Property Number: 21200030083

Status: Excess

Comment: 1508 sq. ft., most recent use—family housing, off-site use only

Connecticut

Bldg. DKL12

USARC Middletown

Middletown Co: Middlesex CT 06457-

Landholding Agency: Army

Property Number: 21200030084

Status: Unutilized

Comment: 39 sq. ft., possible asbestos/lead paint, needs rehab, most recent use—sentry station, off-site use only

Georgia

Bldg. T-1003

Fort Stewart

Hinesville Co: Liberty GA 31514-

Landholding Agency: Army

Property Number: 21200030085

Status: Excess

Comment: 9267 sq. ft., poor condition, most recent use—admin., off-site use only

Bldgs. T-1005, T-1006, T-1007

Fort Stewart

Hinesville Co: Liberty GA 31514-

Landholding Agency: Army

Property Number: 21200030086

Status: Excess

Comment: 9267 sq. ft., poor condition, most recent use—storage, off-site use only

Bldgs. T-1015, T-1016, T-1017

Fort Stewart

Hinesville Co: Liberty GA 31514-

Landholding Agency: Army

Property Number: 21200030087

Status: Excess

Comment: 7496 sq. ft., poor condition, most recent use—storage, off-site use only

Bldgs. T-1018, T-1019

Fort Stewart

Hinesville Co: Liberty GA 31514-

Landholding Agency: Army

Property Number: 21200030088

Status: Excess

Comment: 9267 sq. ft., poor condition, most recent use—storage, off-site use only

Bldgs. T-1020, T-1021

Fort Stewart

Hinesville Co: Liberty GA 31514-

Landholding Agency: Army

Property Number: 21200030089

Status: Excess

Comment: 9267 sq. ft., poor condition, most recent use—storage, off-site use only

Bldg. T-1022

Fort Stewart

Hinesville Co: Liberty GA 31514-

Landholding Agency: Army

Property Number: 21200030090

Status: Excess

Comment: 9267 sq. ft., poor condition, most recent use—supply center, off-site use only

Bldg. T-1027

Fort Stewart

Hinesville Co: Liberty GA 31514-

Landholding Agency: Army

Property Number: 21200030091

Status: Excess

Comment: 9024 sq. ft., poor condition, most recent use—storage, off-site use only

Bldg. T-1028

Fort Stewart

Hinesville Co: Liberty GA 31514-

Landholding Agency: Army

Property Number: 21200030092

Status: Excess

Comment: 7496 sq. ft., poor condition, most recent use—storage, off-site use only

Bldgs. T-1035, T-1036, T-1037

Fort Stewart

Hinesville Co: Liberty GA 31514-

Landholding Agency: Army

Property Number: 21200030093

Status: Excess

Comment: 1626 sq ft., poor condition, most recent use—storage, off-site use only

Bldgs. T-1038, T-1039

Fort Stewart

Hinesville Co: Liberty GA 31514-

Landholding Agency: Army

Property Number: 21200030094

Status: Excess

Comment: 1626 sq ft., poor condition, most recent use—storage, off-site use only

Bldgs. T-1040, T-1042

Fort Stewart

Hinesville Co: Liberty GA 31514-

Landholding Agency: Army

Property Number: 21200030095

Status: Excess

Comment: 1626 sq ft., poor condition, most recent use—storage, off-site use only

Bldgs. T-1086, T-1088

Fort Stewart

Hinesville Co: Liberty GA 31514-

Landholding Agency: Army

Property Number: 21200030096

Status: Excess

Comment: 7680 sq ft., poor condition, most recent use—storage, off-site use only

Bldg. P-7751

Fort Stewart

Hinesville Co: Liberty GA 31514-

Landholding Agency: Army

Property Number: 21200030097

Status: Excess

Comment: 192 sq ft., poor condition, off-site use only

Bldg. P-338

Hunter Army Airfield

Savannah Co: Chatham GA 31409-

Landholding Agency: Army

Property Number: 21200030098

Status: Excess

Comment: 2261 sq ft., most recent use—bathhouse, off-site use only

Bldg. P-339

Hunter Army Airfield

Savannah Co: Chatham GA 31409-

Landholding Agency: Army

Property Number: 21200030099

Status: Excess

Comment: 545 sq ft., most recent use—chlorinator bldg., off-site use only

Hawaii

Bldg. P-L0031

Schofield Barracks

Wahiawa Co: HI 96786-

Landholding Agency: Army

Property Number: 21200030100

Status: Unutilized

Comment: 851 sq ft., most recent use—water pumping station, off-site use only

Illinois

Milo Comm. Tower Site

350 N. Rt. 8

Milo Co: Bureau IL 56142-

Landholding Agency: GSA

Property Number: 54200020018

Status: Excess

Comment: 120 sq ft., cinder block bldg.

GSA Number: 1-D-IL-795

LaSalle Comm. Tower Site

1600 NE 8th St.

Richland Co: LaSalle IL 61370-

Landholding Agency: GSA

Property Number: 54200020019

Status: Excess

Comment: 120 sq. ft. cinder block bldg. and a 300′ tower

GSA Number: 1-D-IL-724

Kansas

Former Army Reserve Center

800 South 29th Street

Parsons Co: Labette KS 75702-

Landholding Agency: GSA

Property Number: 54200010001

Status: Surplus

Comment: 3157 sq. ft., presence of asbestos/lead paint, most recent use—reserve center/office, subject to existing easements

GSA Number: 7-D-KS-519A

Garage/Maint. Bldg.

Cedar Bluff Dam

Ellis Co: Trego KS 67636—

Landholding Agency: Interior

Property Number: 61200030009

Status: Excess

Comment: 1152 sq. ft., needs rehab, presence of asbestos, off-site use only

Kentucky

Bldg. 00087, 02322, 04401

Fort Knox

Ft. Knox Co: Hardin KY 40121-

Landholding Agency: Army

Property Number: 21200030101

Status: Unutilized

Comment: various sq. ft., needs rehab, possible asbestos/lead paint, most recent use—heat plant/storage/admin., off-site use only

Bldg. 02813

Fort Knox

Ft. Knox Co: Hardin KY 40121-

Landholding Agency: Army

Property Number: 21200030102

Status: Unutilized

Comment: 60 sq. ft., needs rehab, possible asbestos/lead paint, most recent use—shed, off-site use only

Maryland

Bldg. 2831

Ft. George G. Meade

Ft. Meade Co: Anne Arundel MD 20755-5115

Landholding Agency: Army

Property Number: 21200030103

Status: Unutilized

Comment: 9652 sq. ft., presence of asbestos/lead paint, most recent use—dental clinic, off-site use only

Bldg. 490

Naval Air Station

Patuxent River Co: MD 20670-

Landholding Agency: Navy

Property Number: 77200030062

Status: Unutilized

Comment: 15,210 sq. ft., most recent use—museum, presence of asbestos/lead paint, off-site use only

Minnesota

GAP Filler Radar Site

St. Paul Co: Rice MN 55101-

Landholding Agency: GSA

Property Number: 54199910009

Status: Excess

Comment: 1266 sq. ft., concrete block, presence of asbestos/lead paint, most recent use—storage, zoning requirements

GSA Number: 1-GR(1)-MN-475

Missouri

Hardesty Federal Complex

607 Hardesty Avenue

Kansas City Co: Jackson MO 64124-3032

Landholding Agency: GSA

Property Number: 54199940001

Status: Excess

Comment: 7 warehouses and support buildings (540 to 216,000 sq. ft.) on 17.47 acres, major rehab, most recent use—storage/office, utilities easement

GSA Number: 7-G-MO-637

Natl Weather Svc Ofc

4100 Mexico Road

St. Peters Co: St. Charles MO 00000-

Landholding Agency: GSA

Property Number: 54200020015

Status: Excess

Comment: 4774 sq. ft., presence of asbestos, good condition, most recent use—office

GSA Number: 7-C-MO-641

New Hampshire

Bldg. KG001

Grenier Field USARC

Manchester Co: Rockingham NH 03103-7474

Landholding Agency: Army

Property Number: 21200030104

Status: Excess

Comment: 18,994 sq. ft., presence of asbestos, most recent use—classroom, off-site use only

Bldg. KG002

Grenier Field USARC

Manchester Co: Rockingham NH 03103-7474

Landholding Agency: Army

Property Number: 21200030105

Status: Excess

Comment: 20,014 sq. ft., presence of asbestos, most recent use—storage/store, off-site use only

Bldg. KG003

Grenier Field USARC

Manchester Co: Rockingham NH 03103-7474

Landholding Agency: Army

Property Number: 21200030106

Status: Excess

Comment: 3458 sq. ft., presence of asbestos, most recent use—veh. maint., off-site use only

Bldg. KG005

Grenier Field USARC

Manchester Co: Rockingham NH 03103-7474

Landholding Agency: Army

Property Number: 21200030107

Status: Excess

Comment: 3005 sq. ft., presence of asbestos, most recent use—storage, off-site use only

New Jersey

Old Bridge Housing

Route 9

Old Bridge Co: NJ 08857-

Landholding Agency: GSA

Property Number: 54199940010

Status: Excess

Comment: 12 three bedroom housing units, no long-term wastewater treatment system for property, presence of asbestos/lead paint, needs repair

GSA Number: 0-0-NJ-000

New York

Bldg. 801

US Military Academy

Highlands Co: Orange NY 10996-1592

Landholding Agency: Army

Property Number: 21200030108

Status: Unutilized

Comment: 27,726 sq. ft., needs repair, possible lead paint, most recent use—warehouse, off-site use only

“Terry Hill”

County Road 51

Manorville NY

Landholding Agency: GSA

Property Number: 51499830008

Status: Surplus

Comment: 2 block structures, 780/272 sq. ft., no sanitary facilities, most recent use—storage/comm. facility, w/6.19 acres in fee and 4.99 acre easement, remote area

GSA Number: 1-D-NY-864

Binghampton Depot

Nolans Road

Binghampton Co: NY 00000-

Landholding Agency: GSA

Property Number: 54199910015

Status: Excess

Comment: 45,977 sq. ft., needs repair, presence of asbestos, most recent use—office

GSA Number: 1-G-NY-760A

South Carolina

Bldg. 1765

Fort Jackson

Ft. Jackson Co: Richard SC 29207-

Landholding Agency: Army

Property Number: 21200030109

Status: Unutilized

Comment: 1700 sq. ft., need repairs, presence of asbestos/lead paint, most recent use—training bldg., off-site use only

Texas

Bldg. P-8219

Fort Sam Houston

San Antonio Co: Bexar TX 78234-5000

Landholding Agency: Army

Property Number: 21200030110

Status: Excess

Comment: 2456 sq. ft., presence of asbestos/lead paint, most recent use—family house, off-site use only

Bldg. 4422

Fort Hood

Ft. Hood Co: Bell TX 76544-

Landholding Agency: Army

Property Number: 21200030111

Status: Unutilized

Comment: 5310 sq. ft., most recent use—barracks, off-site use only

Bldg. 4423

Fort Hood

Ft. Hood Co: Bell TX 76544-

Landholding Agency: Army

Property Number: 21200030112

Status: Unutilized

Comment: 5310 sq. ft., most recent use—barracks, off-site use only

Bldg. 4462

Fort Hood

Ft. Hood Co: Bell TX 76544-

Landholding Agency: Army

Property Number: 21200030113

Status: Unutilized

Comment: 5310 sq. ft., most recent use—barracks, off-site use only

Bldg. 4463

Fort Hood

Ft. Hood Co: Bell TX 76544-

Landholding Agency: Army

Property Number: 21200030114

Status: Unutilized

Comment: 5310 sq. ft., most recent use—barracks, off-site use only

Bldg. 4464

Fort Hood

Ft. Hood Co: Bell TX 76544-

Landholding Agency: Army

Property Number: 21200030115

Status: Unutilized

Comment: 5310 sq. ft., most recent use—barracks, off-site use only

Bldg. 4469

Fort Hood

Ft. Hood Co: Bell TX 76544-

Landholding Agency: Army

Property Number: 21200030116

Status: Unutilized

Comment: 5310 sq. ft., most recent use—barracks, off-site use only

Bldg. 8

Grand Prairie Reserve

Complex

Grand Prairie Co: Dallas TX 75051-

Landholding Agency: Army

Property Number: 21200030117

Status: Unutilized

Comment: 32,500 sq. ft., poor condition, presence of asbestos/lead paint, most recent use—quarters, off-site use only

Virginia

Bldgs. P00526, P00527

Fort A.P. Hill

Bowling Green Co: VA 22427-

Landholding Agency: Army

Property Number: 21200030118

Status: Unutilized

Comment: 144 sq. ft., most recent use—storage, off-site use only

Bldgs. 1630, 1633, 1636

Fort Eustis

Ft. Eustis Co: VA 22604-

Landholding Agency: Army

Property Number: 21200030119

Status: Unutilized

Comment: 720 sq. ft., most recent use—storehouse, off-site use only

Bldg. CEP-6

Naval Station

Norfolk Co: VA 23511-

Landholding Agency: Navy

Property Number: 77200030063

Status: Excess

Comment: 1056 sq. ft., most recent use—storage, off-site use only

Bldg. CEP-210

Naval Station

Norfolk Co: VA 23511-

Landholding Agency: Navy

Property Number: 77200030064

Status: Excess

Comment: 2346 sq. ft., off-site use only

Washington

Bldg. 607

Vancouver Barracks

Vancouver Co: Clark WA 98661-3826

Landholding Agency: Army

Property Number: 21200030120

Status: Unutilized

Comment: 10,120 sq. ft., National Historic Preservation Act requirements, most recent use—office

Bldg. 614

Vancouver Barracks

Vancouver Co: Clark WA 98661-3826

Landholding Agency: Army

Property Number: 21200030121

Status: Unutilized

Comment: 38,981 sq. ft., National Historic Preservation Act requirements, most recent use—admin.

Bldg. 626

Vancouver Barracks

Vancouver Co: Clark WA 98661-3826

Landholding Agency: Army

Property Number: 21200030122

Status: Unutilized

Comment: 1710 sq. ft., National Historic Preservation Act requirements, most recent use—admin.

Bldg. 628

Vancouver Barracks

Vancouver Co: Clark WA 98661-3826

Landholding Agency: Army

Property Number: 21200030123

Status: Unutilized

Comment: 2621 sq. ft., National Historic Preservation Act requirements, most recent use—admin.

Bldg. 636

Vancouver Barracks

Vancouver Co: Clark WA 98661-3826

Landholding Agency: Army

Property Number: 21200030124

Status: Unutilized

Comment: 9686 sq. ft., National Historic Preservation Act requirements, most recent use—admin.

Bldg. 638

Vancouver Barracks

Vancouver Co: Clark WA 98661-3826

Landholding Agency: Army

Property Number: 21200030125

Status: Unutilized

Comment: 33,822 sq. ft., National Historic Preservation Act requirements, most recent use—admin.

West Virginia

Moundsville Federal Bldg.

7th Street

Moundsville Co: Marshal WV 26041-

Landholding Agency: GSA

Property Number: 54200020024

Status: Excess

Comment: 9674 sq. ft., good condition, presence of asbestos, most recent use—office space

GSA Number: 4-G-WV-535

Land (by State)

Arizona

0.322 acres

Madison Street Property

Yuma Co: AZ 00000-

Landholding Agency: GSA

Property Number: 54200020025

Status: Excess

Comment: 14,026 sq. ft., irregular in shape, most recent use—former railroad right-of-way

GSA Number: 9-I-AZ-814

Idaho

25′ x 100′ Site

1520 N St. & 2290 E St.

Rogerson Co: Twin Falls ID 00000-

Landholding Agency: GSA

Property Number: 54200010007

Status: Unutilized

Comment: lot too small to meet minimum size for residence zoning/agriculture, no sewer service

GSA Number: 9-A-ID-545

Maine

Irish Ridge NEXRAD Site

Loring AFB

Fort Fairfield Co: Aroostook ME 04742-

Landholding Agency: GSA

Property Number: 18199640017

Status: Unutilized

Comment: 3.491 acres in fee simple

GSA Number: 0-0-ME-000

Ohio

Jersey Tower Site

Tract No. 100 & 100E

Jersey Co: Licking OH 00000-

Landholding Agency: GSA

Property Number: 54199910013

Status: Surplus

Comment: 4.24 acres, subject to preservation of wetlands

GSA Number: 1-W-OH-813

Licking County Tower Site

Summit & Haven Corner Rds.

Pataskala Co: Licking OH 43062-

Landholding Agency: GSA

Property Number: 54200020021

Status: Excess

Comment: Parcel 100 = 3.67 acres, Parcel 100E = 0.57 acres

GSA Number: 1-W-OH-813

Wyoming

Flying J

Shoshone Project

Park Co: WY 82414-

Landholding Agency: GSA

Property Number: 54200020022

Status: Excess

Comment: approximately 46.35 acres, no utilities, most recent use—oil refinery

GSA Number: 7-1-WY-0539A

Suitable/Unavailable Properties

Buildings (by State)

California

112 Bldgs.—Skaggs Island

Naval Security Group

Skaggs Island Co: Sonoma CA

Landholding Agency: GSA

Property Number: 54199730001

Status: Excess

Comment: 32-13,374 sq. ft., temp. quonset huts to perm. wood/concrete most recent use—housing, admin., support facilities, remote location, below sea level, high maintenance

GSA Number: 9-N-CA-1488

Marine Culture Laboratory

Granite Canyon

34500 Coast Highway

Monterey CA 93940-

Landholding Agency: GSA

Property Number: 54199830011

Status: Surplus

Comment: 3297 sq. ft. office bldg. & lab on 4.553 acres, envir. clean-up plans scheduled

GSA Number: 9-C-CA-1499

Natl Weather Svc Station

Blue Canyon Airport

Emigrant Gap CA 95715-

Landholding Agency: GSA

Property Number: 54199840007

Status: Surplus

Comment: 3140 sq. ft., presence of asbestos, most recent use—ofc/residential/storage, land agreements w/U.S. Forest Service exist, special use permit

GSA Number: 9-C-CA-1521

Naval & Marine Corps Readiness

1700 Stadium Way

Los Angeles Co: Los Angeles CA 90012-

Landholding Agency: GSA

Property Number: 54199910005

Status: Excess

Comment: 133,484 sq. ft., suffered seismic damage, presence of asbestos/lead paint, historic convenants, 45% of property will revert to City

GSA Number: 9-N-CA-1523

Eureka Federal Building

5th & H Streets

Eureka Co: CA 95501-

Landholding Agency: GSA

Property Number: 54199930024

Status: Excess

Comment: 23,959 gross sq. ft., needs rehab, presence of asbestos/lead paint, most recent use—post office/office, listed on the National Register of Historic Places

GSA Number: 9-G-CA-1529

Florida

Crooked River Lighthouse

Carrabelle Co: Franklin FL 32322-

Landholding Agency: GSA

Property Number: 54199940017

Status: Excess

Comment: Lighthouse on 1.29 acres, possible lead base paint, listed on National Register of Historic Places

GSA Number: 4-U-FL-1165

Georgia

Federal Building

109 N. Main Street

Lafayette Co: Walker GA 30728-

Landholding Agency: GSA

Property Number: 54199910014

Status: Excess

Comment: approx. 4761 sq. ft., does not meet ADA requirements for accessibility, easements/reservations restrictions, historic protective covenants

GSA Number: 4-G-GA-858

Illinois

Radar Communication Link

½ mi east of 116th St.

Co: Will IL

Landholding Agency: GSA

Property Number: 54199820013

Status: Excess

Comment: 297 sq. ft. concrete block bldg. with radar tower antenna, possible lead based paint, most recent use—air traffic control

GSA Number: 2-U-IL-696

Army Reserve Center

1881 East Fremont Street

Galesburg Co: Knox IL 61401-

Landholding Agency: GSA

Property Number: 54199940008

Status: Excess

Comment: 2 brick buildings (6117 & 1325 sq. ft.), utilities turned off, need repairs, most recent use—storage

GSA Number: 1-D-IL-720

Indiana

Former Army Reserve Center

White Oak Park

LaPorte Co: LaPorte IN 00000-

Landholding Agency: GSA

Property Number: 54199920003

Status: Excess

Comment: two—1600 sq. ft. picnic shelters, 4358 sq. ft. paved road, 200 sq. ft. rest room

GSA Number: 1-GR(1)-IN-430E

Maryland

Washington Court Apartments

Maryland Rt. 755

Edgewood Co: Harford MD 21040-

Landholding Agency: GSA

Property Number: 54199940005

Status: Excess

Comment: 55 bldgs. housing 276 apartments, (2 to 4 bedrooms), need repairs, presence of lead based paint, property published in error as available on 2/11/00

GSA Number: 4-D-MD-559

De LaSalle Bldg.

4900 LaSalle Road

Avondale Co: Prince Georges MD 20782-

Landholding Agency: GSA

Property Number: 54200020007

Status: Excess

Comment: 130,000 sq. ft., multi-story on 17.79 acres, extensive rehab required, presence of asbestos/lead paint/pigeon infestation, subj. to easements, eligible for Natl Register

GSA Number: 4-G-MD-565A

Cheltenham Naval Comm. Dtchmt.

9190 Commo Rd., AKA 7700

Redman Rd.

Clinton Co: Prince Georges MD 20397-5520

Landholding Agency: GSA

Property Number: 77199330010

Status: Excess

Comment: 32 bldgs., various sq. ft., most recent use—admin/com, & 39 family housing units on 230.35 acres, presence of lead paint/asbestos, 20.09 acres leased to County w/improvements

GSA Number: 4-N-MD-544A

Michigan

Detroit Job Corps Center

10401 E. Jefferson & 1438

Garland;

1265 St. Clair

Detroit Co: Wayne MI 42128-

Landholding Agency: GSA

Property Number: 54199510002

Status: Surplus

Comment: Main bldg. is 80,590 sq. ft., 5-story, adjacent parking lot, 2nd bldg. on St. Clair Ave. is 5140 sq. ft., presence of asbestos in main bldg., to be vacated 8/97

GSA Number: 2-L-MI-757

Parcel 1

Old Lifeboat Station

East Tawas Co: Iosco MI

Landholding Agency: GSA

Property Number: 54199730011

Status: Excess

Comment: 2062 sq. ft. station bldg., garage, boathouse, oilhouse, possible asbestos/lead paint, eligible for listing on National Register of Historic Places

GSA Number: 1-UU-MI-500

Minnesota

MG Clement Trott Mem. USARC

Walker Co: Cass MN 56484-

Landholding Agency: GSA

Property Number: 5419930003

Status: Excess

Comment: 4320 sq. ft. training center and 1316 sq. ft. vehicle maintenance shop, presence of environmental conditions

GSA Number: 1-D-MN-575

Mississippi

Federal Building

236 Sharkey Street

Clarksdale Co: Coahoma MS 38614-

Landholding Agency: GSA

Property Number: 54199910004

Status: Excess

Comment: 15,233 sq. ft., courthouse

GSA Number: 4-G-MS-553

North Carolina

Tarheel Army Missile Plant

Burlington Co: Alamance NC 27215-

Landholding Agency: GSA

Property Number: 54199820002

Status: Excess

Comment: 31 bldgs., presence of asbestos, most recent use—admin., warehouse, production space and 10.04 acres parking area, contamination at site—environmental clean up in process

GSA Number: 4-D-NC-593

Coinjock Station

Canal Road

Coinjock Co: Currituck NC 27293-

Landholding Agency: GSA

Property Number: 54199840010

Status: Excess

Comment: 4 bldgs., most recent use—storage/office GSA Number: 4-U-NC-734

Vehicle Maint. Facility

310 New Bern Ave.

Raleigh Co: Wake NC 27601-

Landholding Agency: GSA

Property Number: 54200020012

Status: Excess

Comment: 10,455 sq. ft., most recent use—maintenance garage

GSA Number: NC076AB

Goldsboro Federal Bldg.

134 North John Street

Goldsboro Co: Wayne NC 27530-

Landholding Agency: GSA

Property Number: 54200020016

Status: Excess

Comment: 24,492 sq.ft., presence of asbestos/lead paint

GSA Number: 4-G-NC-736

Ohio

Zanesville Federal Building

65 North Fifth Street

Zanesville Co: Muskingum OH

Landholding Agency: GSA

Property Number: 54199520018

Status: Excess

Comment: 18750 sq. ft., most recent use—office, possible asbestos, eligible for listing on the Natl Register of Historic Places

GSA Number: 2-G-OH-781A

Lorain Housing

238-240 Augusta Ave.

Lorain OH 44051-

Landholding Agency: GSA

Property Number: 54199840006

Status: Excess

Comment: 3000 sq. ft. duplex, 2-story, good condition, possible lead based paint, existing easements

GSA Number: 1-U-OH-814

Oklahoma

Fed. Bldg./Courthouse

N. Washington & Broadway Streets

Ardmore Co: Carter OK 73402-

Landholding Agency: GSA

Property Number: 54199820009

Status: Excess

Comment: 4000 sq. ft. bldg. w/parking, 3 story plus basement, most recent use—office, subject to historic preservation covenants

GSA Number: 7-G-TX-559

Oregon

Gus Solomon U.S. Courthouse

620 SW Main Street

Portland Co: Multnomah OR 97205-

Landholding Agency: GSA

Property Number: 54199730023

Status: Underutilized

Comment: 15,775 sq. ft., 7-story, does not meet Federal seismic requirements, National Register of Historic Places, pending lease

GSA Number: 7-G-OR-724

Tennessee

3 Facilities, Guard Posts

Volunteer Army Ammunition Plant

Chattanooga Co: Hamilton TN 37421-

Landholding Agency: GSA

Property Number: 54199930011

Status: Surplus

Comment: 48-64 sq. ft., most recent use—access control, property was published in error as available on 2/11/00

GSA Number: 4-D-TN-594F

4 Bldgs.

Volunteer Army Ammunition Plant

Railroad System Facilities

Chattanooga Co: Hamilton TN 37421-

Landholding Agency: GSA

Property Number: 54199930012

Status: Surplus

Comment: 14-2,420 sq. ft., most recent use—storage/rail weighing facilities/dock, potential use restrictions, property was published in error as available on 2/11/00

GSA Number: 4-D-TN-594F

8 Bldgs.

Volunteer Army Ammunition Plant

Missile Assembly

Chattanooga Co: Hamilton TN 37412-

Landholding Agency: GSA

Property Number: 54199930013

Status: Surplus

Comment: concrete block bldgs. on approx. 100 acres, most recent use—assembly/storage/buffer, potential use restrictions, property was published in error as available on 2/11/000

GSA Number: 4-D-TN-594F

200 bunkers

Volunteer Army Ammunition Plant

Storage Magazines

Chattanooga Co: Hamilton TN 37421-

Landholding Agency: GSA

Property Number: 54199930014

Status: Surplus

Comment: approx. 200 concrete bunkers covering a land area of approx. 4000 acres, most recent use—storage/buffer area, potential use restrictions, property was published in error as available on 2/11/00

GSA Number: 4-D-TN-594F

Bldg. 232

Volunteer Army Ammunition Plant

Chattanooga Co: Hamilton TN 37421-

Landholding Agency: GSA

Property Number: 54199930020

Status: Surplus

Comment: 10,000 sq. ft., most recent use—office, presence of asbestos, approx. 5 acres associated w/bldg., potential use restrictions, property was published in error as available on 2/11/00

GSA Number: 4-D-TN-594F

2 Laboratories

Volunteer Army Ammunition Plant

Chattanooga Co: Hamilton TN 37421-

Landholding Agency: GSA

Property Number: 54199930021

Status: Surplus

Comment: 2000-12,000 sq. ft., potential use/lease restrictions, property was published in error as available on 2/11/00

GSA Number: 4-D-TN-594F

3 Facilities

Volunteer Army Ammunition Plant

Water Distribution

Facilities

Chattanooga Co: Hamilton TN 37421-

Landholding Agency: GSA

Property Number: 54199930022

Status: Surplus

Comment: 256-15,204 sq. ft., 35.86 acres associated w/bldgs., most recent use—water distribution system, potential use/lease restrictions, property was published in error as available on 2/11/00

GSA Number: 4-D-TN-594F

Naval Hospital

5720 Integrity Drive

Millington Co: Shelby TN 38054-

Location: Bldgs. 98, 100, 103, 105, 111, 114, 116, 117, 118

Landholding Agency: GSA

Property Number: 54200020005

Status: Excess

Comment: 9 bldgs., various sq. ft., need major rehab

GSA Number: 4-N-TN-648

Virginia

Army Reserve Center

1 West Church St.

Martinsville Co: Henry VA 24112-

Landholding Agency: GSA

Property Number: 54199930010

Status: Excess

Comment: 12,225 sq. ft., 3 stories, most recent use—office, 2,250 sq. ft. leased to Postal Service, property was published in error as available on 2/11/00

GSA Number: 4-D-VA-719

Washington

Moses Lake U.S. Army Rsv Ctr

Grant County Airport

Moses Lake Co: Grant WA 98837-

Landholding Agency: GSA

Property Number: 21199630118

Status: Surplus

Comment: 4499 sq. ft./2.86 acres, most recent use—admin., temporary permit from COE granted to an organization, FAA recommended land not be used for residential use due to aircraft noise problem, restriction

GSA Number; 9-D-WA-1141

Wisconsin

Wausau Federal Building

317 First Street

Wausau Co: Marathon WI 54401-

Landholding Agency: GSA

Property Number: 54199820016

Status: Excess

Comment: 30,500 sq. ft., presence of asbestos, eligible for listing on the Natl Register of Historic Places, most recent use—office

GSA Number: 1-G-WI-593

Army Reserve Center

401 Fifth Street

Kewaunee Co: WI 54216-1838

Landholding Agency: GSA

Property Number: 54199940004

Status: Excess

Comment: 2 admin. bldgs. (15,593 sq. ft.), 1 garage (1325 sq. ft.), need repairs, property was published in error as available on 2/11/00

GSA Number: 1-D-WI-597

Land (by State)

Maryland

12.52 acres

Casson Neck

Cambridge Co: Dorchester MD 00000-

Landholding Agency: GSA

Property Number: 54200020020

Status: Excess

Comment: 12.52 acres, possible restrictions due to wetlands

GSA Number: 4-U-MD-600A

Michigan

Parcel 3, Parcel B

East Tawas Co: Iosco MI

Landholding Agency: GSA

Property Number: 54199730013

Status: Excess

Comment: 2.02 acres of land, wooded and primarily wetlands, restricted access

GSA Number: 1-U-MI-500

Mississippi

Proposed Site

Army Reserve Center

Waynesboro Co: Wayne MS 39367-

Landholding Agency: GSA

Property Number: 54200010005

Status: Excess

Comment: 7.60 acres, most recent use—pine plantation, periodic flooding, possible wetlands on 30-40% of property

GSA Number: 4-D-MS-0555

North Carolina

6.45 acres

Portion of McKinney Lake

Fish Hatchery

Millstone Church Road

Hoffman Co: Richmond NC 28347

Landholding Agency: GSA

Property Number: 54200020011

Status: Excess

Comment: 6.45 acres, most recent use—outdoor horticulture classes

GSA Number: 4-GR-NC-570

Puerto Rico

La Hueca—Naval Station

Roosevelt Roads

Vieques PR 00765-

Landholding Agency: GSA

Property Number: 54199420006

Status: Excess

Comment: 323 acres, cultural site

Bahia Rear Range Light

Ocean Drive

Catano Co: PR 00632-

Landholding Agency: GSA

Property Number: 54199940003

Status: Excess

Comment: 0.167 w/skeletal tower, fenced, aid to navigation

GSA Number: 1-T-PR-508

Tennessee

1500 acres

Volunteer Army Ammunition

Plant

Chattanooga Co: Hamilton TN 37421-

Landholding Agency: GSA

Property Number: 54199930015

Status: Surplus

Comment: scattered throughout facility, most recent use—buffer area, steep topography, potential use restrictions, property was published in error as available on 2/11/00

GSA Number: 4-D-TN-594F

Unsuitable Properties

Buildings (by State)

Alabama

Sand Island Light House

Gulf of Mexico

Mobile AL

Landholding Agency: GSA

Property Number: 54199610001

Status: Excess

Reason: Inaccessible

GSA Number: 4-U-AL-763

Mobile Point Light

Gulf Shores Co: Baldwin AL 36542-

Landholding Agency: GSA

Property Number: 54199940011

Status: Excess

Reason: Within 2000 ft. of flammable or explosive material

GSA Number: 4-U-AL-767

California

Old SF Mint

88 5th Street

San Francisco Co: CA 94103-

Landholding Agency: GSA

Property Number: 54199910017

Status: Excess

Reason: Extensive deterioration

GSA Number: 9-G-CA-1531

Bldg. 21091

Marine Corps Air Station

Miramar Co: San Diego CA 92132—

Landholding Agency: Navy

Property Number: 77200030058

Status: Unutilized

Reason: Extensive deterioration

Bldg. 21127

Marine Corps Air Station

Miramar Co: San Diego CA 92132-

Landholding Agency: Navy

Property Number: 77200030059

Status: Unutilized

Reason: Extensive deterioration

Bldg. 9919

Marine Corps Air Station

Miramar Co: San Diego CA 92132-

Landholding Agency: Navy

Property Number: 77200030060

Status: Unutilized

Reason: Extensive deterioration

Bldg. 9920

Marine Corps Air Station

Miramar Co: San Diego CA 92132-

Landholding Agency: Navy

Property Number: 77200030061

Status: Unutilized

Reason: Extensive deterioration

Florida

Cape St. George Lighthouse

St. George Island Co: Franklin FL 32328-

Landholding Agency: GSA

Property Number: 54199940012

Status: Excess

Reasons: Floodway, Extensive deterioration

GSA Number: 4-U-FL-1167

Boca Grande Range

Rear Light

Gasparilla Island Co: Lee FL 33921-

Landholding Agency: GSA

Property Number: 54199940013

Status: Excess

Reason: Floodway

GSA Number: 4-U-FL-1169

Sanibel Island Light

Sanibel Co: Lee FL 33957-

Landholding Agency: GSA

Property Number: 54199940014

Status: Excess

Reason: Floodway

GSA Number: 4-U-FL-1162

Amelia Island Light

Fernandina Beach Co: Nassau FL 32034-

Landholding Agency: GSA

Property Number: 54199940016

Status: Excess

Reason: Secured Area

GSA Number: 4-U-FL-1171

Georgia

Stored Products Insects

R&D Lab

3401 Edwin Street

Savannah Co: Chatham GA 31403-

Landholding Agency: GSA

Property Number: 54200010003

Status: Excess

Reason: Floodway

GSA Number: 4-A-GA-861

Range Rear Light

Blythe Island

Brunswick Co: Glynn GA 31525-

Landholding Agency: GSA

Property Number: 54200020001

Status: Excess

Reason: Extensive deterioration

GSA Number: 4-U-GA-863

Hawaii

Portion, Bellows AFS

DE#1, Parcel 5A

Waimanalo Co: Oahu HI 96795-

Landholding Agency: GSA

Property Number: 54199930025

Status: Surplus

Reason: Floodway

GSA Number: 9-D-HI-574

Idaho

Moore Hall U.S. Army Rsve Ctr

1575 N. Skyline Dr.

Idaho Falls Co: Bonneville ID 83401-

Landholding Agency: GSA

Property Number: 21199720207

Status: Excess

Reason: Within 2000 ft. of flammable or explosive material

GSA Number: 9-D-ID-544

Illinois

Navy Family Housing

18-units

Hanna City Co: Peoria IL 61536-

Landholding Agency: GSA

Property Number: 54199940018

Status: Excess

Reason: Within 2000 ft. of flammable or explosive material

GSA Number: 1-N-IL-723

Kansas

Sunflower AAP

DeSoto Co: Johnson KS 66018-

Landholding Agency: GSA

Property Number: 54199830010

Status: Excess

Reason: Extensive deterioration

GSA Number: 7-D-KSL-0581

Massachusetts

Frederick Murphy Federal Ctr

424 Trapelo Road

Waltham Co: MA 00000-

Landholding Agency: GSA

Property Number: 54199920005

Status: Surplus

Reason: Extensive deterioration

GSA Number: 1-G-MA-0848

Michigan

15 Offshore Lighthouses

Great Lankes MI

Landholding Agency: GSA

Property Number: 54199630014

Status: Excess

Reason: Extensive deterioration

Parcel 14, Boat House

East Tawas Co: Iosco MI

Landholding Agency: GSA

Property Number: 54199730014

Status: Excess

Reason: Extensive deterioration

GSA Number: 1-U-MI-500

Round Island Light

Lake Huron

Lake Huron Co: Mackinac MI

Landholding Agency: GSA

Property Number: 54199730019

Status: Excess

Reason: Inaccessible

GSA Number: 1-U-MI-444B

Tracts 100-1

Calumet Air Force Station

Calumet Co: Keweenaw MI 49913-

Landholding Agency: GSA

Property Number: 54199840003

Status: Excess

Reason: no legal access

GSA Number: 1-D-MI-659A

Tract 100-2, 100-3

Calumet Air Force Station

Calumet Co: Keweenaw MI 49913-

Landholding Agency: GSA

Property Number: 54199840004

Status: Excess

Reason: no legal access

GSA Number: 1-D-MI-659A

Federal Bldg.

Benton Harbor

174/5 Territorial Road

Benton Harbor Co: Berrien MI 49022-

Landholding Agency: GSA

Property Number: 54200020003

Status: Excess

Reason: With 2000 ft. of flammable or explosive material

GSA Number: 1-G-MI-796

Navy Housing

64 Barberry Drive

Springfield Co: Calhoun MI 49015-

Landholding Agency: GSA

Property Number: 54200020013

Status: Excess

Reason: Within 2000 ft. of flammable or explosive material

GSA Number: 1-N-MI-795

Minnesota

Naval Ind. Rsv Ordnance Plant

Minneapolis Co: MN 55421-1498

Landholding Agency: GSA

Property Number: 54199930004

Status: Excess

Reason: Within 2000 ft. of flammable or explosive material

GSA Number: 1-N-MI-570

Nike Battery Site, MS-40

Castle Rock Township

Farmington Co: MN 00000-

Landholding Agency: GSA

Property Number: 54200020004

Status: Surplus

Reason: Within 2000 ft. of flammable or explosive material

GSA Number: 1-I-MN-451-B

Nevada

Former Weather Service Office

Winnemucca Airport

Winnemucca Co: Humbolt NV 89445-

Landholding Agency: GSA

Property Number: 54199810001

Status: Excess

Reason: Within airport runway clear zone

GSA Number: 9-C-NV-509

6 Bldgs.

Dale Street Complex

300, 400, 500, 600, Block

Bldg, Valve House

Boulder City Co: NV 89005-

Landholding Agency: GSA

Property Number: 54200020017

Status: Excess

Reason: Extensive deterioration

GSA Number: LC-00-01-RP

New Jersey

Telephone Repeater Site

U.S. Coast Guard

Monmouth Beach Co: Monmouth Beach NJ 07750-

Landholding Agency: GSA

Property Number: 54199910001

Status: Excess

Reason: Extensive deterioration

GSA Number: 1-U-NJ-628

Parcel A-1, Bldg. 228

Raritan Center

2890 Woodbridge Avenue

Edison Co: NJ 08837-

Landholding Agency: GSA

Property Number: 54200020009

Status: Excess

Reason: Extensive deterioration

GSA Number: 1-Z-NJ-440-O

New York

2 Offshore Lighthouses

Great Lakes NY

Landholding Agency: GSA

Property Number: 54199630015

Status: Excess

Reason: Extensive deterioration

Ohio

Toledo Harbor Lighthouse

Lake Erie

Toledo Co: Lucas OH 43611-

Landholding Agency: GSA

Property Number: 54199710014

Status: Excess

Reason: Inaccessible

GSA Number: 1-U-OH-801

Toledo Federal Building

234 Summit Avenue

Toledo Co: Lucas OH 43604-

Landholding Agency: GSA

Property Number: 54199810014

Status: Excess

Reason: Within 2000 ft. of flammable or explosive material

GSA Number: 1-G-H-804

Oregon

Portion, Former Kingsley Field

Air Force Base

Arnold Ave. & Joe Wright Rd.

Klamath Falls Co: Klamath OR 97603-

Landholding Agency: GSA

Property Number: 54199810003

Status: Unutilized

Reason: Within 2000 ft. of flammable or explosive material

GSA Number: 10-D-OR-434-J

Troutdale Materials Lab

Troutdale Co: Multnomah OR 97060-9501

Landholding Agency: GSA

Property Number: 54199830009

Status: Surplus

Reason: Within 2000 ft. of flammable or explosive material

GSA Number: 9-D-OR-729

Puerto Rico

Dry Dock & Ship Repair Fac.

U.S. Navy

San Juan PR

Landholding Agency: GSA

Property Number: 54199710012

Status: Excess

Reason: Within 2000 ft. of flammable or explosive material; Floodway

GSA Number: 1-N-PR-491

Tennessee

22 Bldgs.

Volunteer Army Ammunition Plant

Warehouses (Souther Portion)

Chattanooga Co: Hamilton TN 37421-

Landholding Agency: GSA

Property Number: 5419930016

Status: Surplus

Reason: Within 2000 ft. of flammable or explosive material

GSA Number: 4-D-TN-594F

17 Bldgs.

Volunteer Army Ammunition Plant

Acid Production

Chattanooga Co: Hamilton TN 37421-

Landholding Agency: GSA

Property Number: 54199930017

Status: Surplus

Reason: Within 2000 ft. of flammable or explosive material contamination

GSA Number: 4-D-TN-594F

41 Facilities

Volunteer Army Ammunition Plant

TNT Production

Chattanooga Co: Hamilton TN 37421-

Landholding Agency: GSA

Property Number: 54199930018

Status: Surplus

Reason: contamination

GSA Number: 4-D-TN-594F

5 Facilities

Volunteer Army Ammunition Plant

Waste Water Treatment

Chattanooga Co: Hamilton TN 37421-

Landholding Agency: GSA

Property Number: 54199930019

Status: Surplus

Reason: Extensive deterioration

GSA Number: 4-D-TN-594F

6 Bldgs.

Volunteer Army Ammunition Plant

Offices (Southern Portion)

Chattanooga Co: Hamilton TN 37421-

Landholding Agency: GSA

Property Number: 54199930023

Status: Surplus

Reason: Within 2000 ft. of flammable or explosive material

GSA Number: 4-D-TN-594F

Texas

Station Port Mansfield

Port Mansfield Co: Willary TX 78598-

Landholding Agency: GSA

Property Number: 54199930008

Status: Surplus

Reason: Floodway

GSA Number: 7-U-TX-1057

Portion-Port O'Connor Housing

1125 Brook Hollow Drive

Port Lavaca Co: Calhoun TX 77979-

Landholding Agency: GSA

Property Number: 54199940006

Status: Excess

Reason: Extensive deterioration

GSA Number: 7-U-TX-1056

Washington

Bldg. 844

Former Park Place Enlisted Club

808 Burwell St.

Bremerton Co: Kitsap WA 98314-

Landholding Agency: GSA

Property Number: 54199840002

Status: Excess

Reason: Within 2000 ft. of flammable or explosive material

GSA Number: 9-D-WA-1164

Wisconsin

2 Offshore Lighthouses

Great Lakes WI

Landholding Agency: GSA

Property Number: 54199630016

Status: Excess

Reason: Extensive deterioration

Land (by State)

Florida

(P) Ponce de Leon Inlet

2999 N. Peninsula Ave.

New Smyrna Beach Co: Volusia FL 32169-

Landholding Agency: GSA

Property Number: 54199940015

Status: Excess

Reason: Floodway

GSA Number: 4-U-FL-1170

Guam

Submerged Lands

Ritidian Point GU

Landholding Agency: GSA

Property Number: 54199640003

Status: Excess

Reason: Inaccessible

GSA Number: 9-N-GU-437

Kentucky

9 Tracts

Daniel Boone National Forest

Co: Owsley KY 37902-

Landholding Agency: GSA

Property Number: 54199620012

Status: Excess

Reason: Floodway

GSA Number: 4-G-KY-607

Massachusetts

Comm. Annex #1 (Former)

Granby Co: Hampshire MA 01033-

Landholding Agency: GSA

Property Number: 54200010002

Status: Excess

Reason: Within airport runway clear zone

GSA Number: 1-D-MA-0856

Michigan

Port/EPA Large Lakes Rsch Lab

Grosse Ile Twp Co: Wayne MI

Landholding Agency: GSA

Property Number: 54199720022

Status: Excess

Reason: Within airport runway clear zone

GSA Number: 1-Z-MI-554-A

Ohio

Lewis Research Center

Cedar Point Road

Cleveland Co: Cuyahoga OH 44135-

Property Number: 54199610007

Status: Excess

Reasons: Within 2000 ft. of flammable or explosive material; Within airport runway clear zone

GSA Number: 2-Z-OH-598-I

Pennsylvania

Novak Estate Land

Moon Township Co: Allegheny PA 15222-

Landholding Agency: GSA

Property Number: 54200010006

Status: Excess

Reason: Inaccessible

GSA Number: 4-G-PA-787

Washington

Tract B-201

Geiger Heights Lagoon

Spokane Co: WA 99210-

Landholding Agency: GSA

Property Number: 18199930014

Status: Excess

Reason: Within 2000 ft. of flammable or explosive material

GSA Number: 9-D-WA-1180

Wyoming

Cody Industrial Area

Cody Co: Park WY 82414-

Landholding Agency: GSA

Property Number: 54199740008

Status: Excess

Reason: Within 2000 ft. of flammable of explosive material

GSA Number: 7-I-WY-0539

[FR Doc. 00-23455 Filed 9-14-00; 8:45 am]

BILLING CODE 4210-29-M